DEPARTMENT OF JUSTICE

Antitrust Division

Notice Pursuant to the National Cooperative Research and Production Act of 1993—Application Service Provider Industry Consortium, Inc.

Notice is hereby given that, on February 2, 2001, pursuant to section 6(a) of the National Cooperative Research and Production Act of 1993, 15 U.S.C. 4301 et seq. (“the Act”), Application Service Provider Industry Consortium, Inc. has filed written notifications simultaneously with the Attorney General and the Federal Trade Commission disclosing changes in its membership status. The notifications were filed for the purpose of extending the Act's provisions limiting the recovery of antitrust plaintiffs to actual damages under specified circumstances. Specifically, 3Com Corporation, Holmdel, NJ; AboveNet Communications, Inc., San Jose, CA; Aegis Consulting, LLC, McLean, VA; Agilera, Columbia, SC; Allaire Corporation, Cambridge, MA; Apeldorn's Communication & Information Tech GmbH, Bad Homburg, Germany; Appliant, Inc., Seattle, WA; Arqana Technologies Inc., Mississauga, Ontario, Canada; Aventail Corp., Seattle, WA; Avnet, Tempe, AZ; BCA it Ltd., S. Melbourne, Victoria, Australia; Blue Sky Technology Services, Delray Beach, FL; Cable & Wireless, Vienna, VA; ChoicePoint, Tipton, PA; Clarus Corporation, Suwanee, GA; Concentric Network, San Jose, CA; Concord Communications, Inc., Marlboro, MA; Conference Plus, Inc., Schaumberg, IL; Data General, Westboro, MA; Data Return Corporation, Irving, TX; eALITY, Inc., Foster City, CA; ebaseOne Corp., Houston, TX; Eggrock Partners, LLC, Concord, MA; ELF Technologies, Inc., Issaquah, WA; Eltrax Systems Inc., Atlanta, GA; Envive Corporation, Mountain View, CA; EpiCON, Inc., Chelmsford, MA; Evalis AG, Koln, Germany; FirstSense, Burlington, MA; GTE, Irving, TX; HotOffice Technologies, Inc., Boca Raton, FL; Imagecom, Arlington Heights, IL; InfoStream ASA, Oslo, Norway; IT Support Center Inc., Dothan, AL; ITNET, Birmingham, United Kingdom; Jato Communications, Denver, CO; JustOn, Palo Alto, CA; LearningStation.com, Charlotte, NC; Logix Communications Corp., Oklahoma City, OK; Managed Object Solutions, Inc., McLean, VA; Mentergy, Troy, NY; MUA Pty Ltd., Artarmon, NSW, Australia; Multrix Group, N.V., Amsterdam, The Netherlands; National Semiconductor, Santa Clara, CA; NaviSite, Inc., Andover, MA; Netier Technologies, Inc., Carrollton, TX; Netigy, San Jose, CA; Network Computing Devices, Mountain View, CA; NorthPoint Communications, San Francisco, CA; PBM Corp., Cleveland, OH; Pilot Network Services, Inc., Alameda, CA; Pivotal Corporation, Kirkland, WA; PreferSoft Solutions, Inc., Scotts Valley, CA; Princeton Financial Systems, Princeton, NJ; Professional Advantage, North Sydney, NSW, Australia; SAGA SOFTWARE, Inc., Reston, VA; SalesLogix Corporation, Scottsdale, AZ; Sequent Computer Systems, Beaverton, OR; Sharp Electronics Corp., Mahwah, NJ; Softblox, Inc., Atlanta, GA; Solution 6 Pty Ltd., Sydney, NSW, Australia; StorageNetworks, Inc., Waltham, MA; Surebridge, Inc., Lexington, MA; Telcordia Technologies, Piscataway, NJ; Tequinox, Stames Corner QL, Australia; US West, Denver, CO; Vsource (Virtual Source, Inc.), Ventura, CA; Workscape, Inc., Natick, MA; Wyzdom Solutions, Inc., San Francisco, CA; and X-Collaboration Software Corporation, Boston, MA have been added as parties to this venture.

No other changes have been made in either the membership or planned activity of the group research project. Membership in this group research project remains open, and Application Service Provider Industry Consortium, Inc. intends to file additional written notification disclosing all changes in membership.

On July 28, 1999, Application Service Provider Industry Consortium, Inc. filed its original notification pursuant to section 6(a) of the Act. The Department of Justice published a notice in the Federal Register pursuant to section 6(b) of the Act on March 21, 2000 (65 FR 15174).

The last notification was filed with the Department on November 30, 2000. A notice has not yet been published in the Federal Register.

Constance K. Robinson,
Director of Operations, Antitrust Division

[FR Doc. 01-6885 Filed 3-19-01; 8:45 am]

BILLING CODE 4410-11-M